DEPARTMENT OF COMMERCE

International Trade Administration

[A-533-840]

Certain Frozen Warmwater Shrimp From India: Final Results of Antidumping Duty Administrative Review; 2012-2013

AGENCY: Enforcement and Compliance, International Trade Administration, Department of Commerce.

SUMMARY: On March 25, 2014, the Department of Commerce (the Department) published the preliminary results of the administrative review of the antidumping duty order on certain frozen warmwater shrimp from India.¹ The period of review (POR) is February 1, 2012, through January 31, 2013. For the final results, we continue to find that all companies involved in this review sold subject merchandise at less than normal value.

¹ See Certain Frozen Warmwater Shrimp From India; Preliminary Results of Antidumping Duty Administrative Review; 2012-2013, 79 FR 16285 (Mar. 25, 2014) (Preliminary Results).

DATES: Effective Date: August 28, 2014.

FOR FURTHER INFORMATION CONTACT: David Crespo or Stephen Banea, AD/CVD Operations, Office II, Enforcement and Compliance, International Trade Administration, U.S. Department of Commerce, 14th Street and Constitution Avenue NW., Washington, DC 20230; telephone: (202) 482-3693 or (202) 482-0656, respectively.

SUPPLEMENTARY INFORMATION:

Background

This review covers 205 producers/exporters. The respondents which the Department selected for individual examination are Devi Fisheries Limited (Devi Fisheries) and Falcon Marine Exports Limited/K.R. Enterprises (Falcon). The respondents which were not selected for individual examination are listed in the “Final Results of the Review” section of this notice.

On March 25, 2014, the Department published the Preliminary Results. In May 2014, we received case briefs from the American Shrimp Processors Association; and Devi Fisheries, Falcon, and 16 additional producers/exporters of the subject merchandise (collectively, the respondents); we also received rebuttal briefs from the above-mentioned interested parties and the Ad Hoc Shrimp Trade Action Committee. In June 2014, the Department held a public hearing at the request of the respondents.

Scope of the Order

The merchandise subject to the order is certain frozen warmwater shrimp.² The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and customs purposes, the written product description remains dispositive.

² For a complete description of the Scope of the Order, see the memorandum from Gary Taverman, Senior Advisor for Antidumping and Countervailing Duty Operations, to Ronald K. Lorentzen, Acting Assistant Secretary for Enforcement and Compliance, entitled, “Issues and Decision Memorandum for the Final Results of the Antidumping Duty Administrative Review of Certain Frozen Warmwater Shrimp from India,” (dated concurrently with these results) (Issues and Decision Memo), which is hereby adopted by this notice.

Analysis of Comments Received

All issues raised in the case briefs by parties are addressed in the Issues and Decision Memo. A list of the issues which parties raised and to which we respond in the Issues and Decision Memo is attached to this notice as Appendix I. The Issues and Decision Memo is a public document and is on file electronically via Enforcement and Compliance's Antidumping and Countervailing Duty Centralized Electronic Service System (IA ACCESS). IA ACCESS is available to registered users at http://iaaccess.trade.gov and in the Central Records Unit, room 7046 of the main Department of Commerce building. In addition, a complete version of the Issues and Decision Memo can be accessed directly on the Internet at http://www.trade.gov/ia/. The signed and electronic versions of the Issues and Decision Memo are identical in content.

Changes Since the Preliminary Results

Based on a review of the record and comments receive from interested parties regarding our Preliminary Results, we have made no changes to Devi Fisheries' or Falcon's margin calculations.

Period of Review

The POR is February 1, 2012, through January 31, 2013.

Final Results of the Review

We are assigning the following dumping margins to the firms listed below as follows:

Manufacturer/Exporter | Percent margin
Devi Fisheries Limited | 1.97
Falcon Marine Exports Limited/K.R. Enterprises | 3.01

Review-Specific Average Rate Applicable to the Following Companies: ³

³ This rate is based on the simple average of the margins calculated for those companies selected for individual review. Because we cannot apply our normal methodology of calculating a weighted-average margin without revealing business proprietary information to the companies selected for individual review, we find this rate to be the best proxy of the actual weighted-average margin determined for the mandatory respondents. See Ball Bearings and Parts Thereof From France, et al.: Final Results of Antidumping Duty Administrative Reviews, Final Results of Changed-Circumstances Review, and Revocation of an Order in Part, 75 FR 53661, 53663 (Sept. 1, 2010); see also the memorandum from David Crespo, International Trade Compliance Analyst, to the File, entitled, “Calculation of the Review-Specific Average Rate in the 2012-2013 Administrative Review of Certain Frozen Warmwater Shrimp from India,” dated March 18, 2014.

Manufacturer/Exporter | Percent margin
Abad Fisheries | 2.49
Accelerated Freeze-Drying Co. | 2.49
Adilakshmi Enterprises | 2.49
Allana Frozen Foods Pvt. Ltd | 2.49
Allanasons Ltd | 2.49
AMI Enterprises | 2.49
Amulya Seafoods | 2.49
Anand Aqua Exports | 2.49
Ananda Aqua Applications/Ananda Aqua Exports (P) Limited/Ananda Foods | 2.49
Andaman Sea Foods Pvt. Ltd | 2.49
Angelique Intl | 2.49
Anjaneya Seafoods | 2.49
Apex Frozen Foods Private Limited | 2.49
Arvi Import & Export | 2.49
Asvini Exports | 2.49
Asvini Fisheries Private Limited | 2.49
Avanti Feeds Limited | 2.49
Ayshwarya Seafood Private Limited | 2.49
Baby Marine Exports | 2.49
Baby Marine International | 2.49
Baby Marine Sarass | 2.49
Balasore Marine Exports Private Limited | 2.49
Bhatsons Aquatic Products | 2.49
Bhavani Seafoods | 2.49
Bijaya Marine Products | 2.49
Blue Fin Frozen Foods Pvt. Ltd | 2.49
Blue Water Foods & Exports P. Ltd | 2.49
Bluefin Enterprises | 2.49
Bluepark Seafoods Private Ltd | 2.49
BMR Exports | 2.49
Britto Exports | 2.49
C P Aquaculture (India) Ltd | 2.49
Calcutta Seafoods Pvt. Ltd | 2.49
Canaan Marine Products | 2.49
Capithan Exporting Co. | 2.49
Castlerock Fisheries Ltd | 2.49
Chemmeens (Regd) | 2.49
Cherukattu Industries (Marine Div.) | 2.49
Choice Canning Company | 2.49
Choice Trading Corporation Private Limited | 2.49
Coastal Aqua | 2.49
Coastal Corporation Ltd | 2.49
Cochin Frozen Food Exports Pvt. Ltd | 2.49
Coreline Exports | 2.49
Corlim Marine Exports Pvt. Ltd | 2.49
D2 D Logistics Private Limited | 2.49
Damco India Private | 2.49
Delsea Exports Pvt. Ltd | 2.49
Devi Marine Food Exports Private Ltd/Kader Exports Private Limited/Kader Investment and Trading Company Private Limited/Liberty Frozen Foods Pvt. Ltd/Liberty Oil Mills Ltd/Premier Marine Products/Universal Cold Storage Private Limited | 2.49
Devi Sea Foods Limited ⁴ | 2.49
Diamond Seafood Exports/Edhayam Frozen Foods Pvt. Ltd/Kadalkanny Frozen Foods/Theva & Company | 2.49
Digha Seafood Exports | 2.49
Esmario Export Enterprises | 2.49
Exporter Coreline Exports | 2.49
Five Star Marine Exports Private Limited | 2.49
Forstar Frozen Foods Pvt. Ltd | 2.49
Frontline Exports Pvt. Ltd | 2.49
G A Randerian Ltd | 2.49
Gadre Marine Exports | 2.49
Galaxy Maritech Exports P. Ltd | 2.49
Gayatri Seafoods | 2.49
Geo Aquatic Products (P) Ltd | 2.49
Geo Seafoods | 2.49
Goodwill Enterprises | 2.49
Grandtrust Overseas (P) Ltd | 2.49
GVR Exports Pvt. Ltd | 2.49
Haripriya Marine Export Pvt. Ltd | 2.49
Harmony Spices Pvt. Ltd | 2.49
HIC ABF Special Foods Pvt. Ltd | 2.49
Hindustan Lever, Ltd | 2.49
Hiravata Ice & Cold Storage | 2.49
Hiravati Exports Pvt. Ltd | 2.49
Hiravati International Pvt. Ltd (located at APM—Mafco Yard, Sector—18, Vashi, Navi, Mumbai—400 705, India) | 2.49
Hiravati International Pvt. Ltd (located at Jawar Naka, Porbandar, Gujarat, 360 575, India) | 2.49
Hiravati Marine Products Private Limited | 2.49
IFB Agro Industries Ltd | 2.49
Indian Aquatic Products | 2.49
Indo Aquatics | 2.49
Innovative Foods Limited | 2.49
International Freezefish Exports | 2.49
Interseas | 2.49
ITC Limited, International Business | 2.49
ITC Ltd | 2.49
Jagadeesh Marine Exports | 2.49
Jaya Satya Marine Exports | 2.49
Jaya Satya Marine Exports Pvt. Ltd | 2.49
Jayalakshmi Sea Foods Private Limited | 2.49
Jinny Marine Traders | 2.49
Jiya Packagings | 2.49
K R M Marine Exports Ltd | 2.49
K V Marine Exports | 2.49
Kalyan Aqua & Marine Exp. India Pvt. Ltd | 2.49
Kalyanee Marine | 2.49
Kanch Ghar | 2.49
Kay Kay Exports | 2.49
Kings Marine Products | 2.49
Koluthara Exports Ltd | 2.49
Konark Aquatics & Exports Pvt. Ltd | 2.49
Landauer Ltd | 2.49
LCL Logistix (India) Private Limited | 2.49
Libran Cold Storages (P) Ltd | 2.49
Lighthouse Trade Links Pvt. Ltd | 2.49
Magnum Estates Limited | 2.49
Magnum Export | 2.49
Magnum Sea Foods Limited | 2.49
Malabar Arabian Fisheries | 2.49
Malnad Exports Pvt. Ltd | 2.49
Mangala Marine Exim India Pvt. Ltd | 2.49
Mangala Sea Products | 2.49
Meenaxi Fisheries Pvt. Ltd | 2.49
MSC Marine Exporters | 2.49
MSRDR Exports | 2.49
MTR Foods | 2.49
N.C. John & Sons (P) Ltd | 2.49
Naga Hanuman Fish Packers | 2.49
Naik Frozen Foods | 2.49
Naik Seafoods Ltd | 2.49
Navayuga Exports | 2.49
Nekkanti Sea Foods Limited | 2.49
Nezami Rekha Sea Food Private Limited | 2.49
NGR Aqua International | 2.49
Nila Sea Foods Pvt. Ltd | 2.49
Nine Up Frozen Foods | 2.49
Overseas Marine Export | 2.49
Paragon Sea Foods Pvt. Ltd | 2.49
Parayil Food Products Pvt., Ltd | 2.49
Penver Products Pvt. Ltd | 2.49
Pesca Marine Products Pvt., Ltd | 2.49
Pijikay International Exports P Ltd | 2.49
Pisces Seafood International | 2.49
Premier Exports International | 2.49
Premier Marine Foods | 2.49
Premier Seafoods Exim (P) Ltd | 2.49
R V R Marine Products Limited | 2.49
Raa Systems Pvt. Ltd | 2.49
Raju Exports | 2.49
Ram's Assorted Cold Storage Ltd | 2.49
Raunaq Ice & Cold Storage | 2.49
Raysons Aquatics Pvt. Ltd | 2.49
Razban Seafoods Ltd | 2.49
RBT Exports | 2.49
RDR Exports | 2.49
Riviera Exports Pvt. Ltd | 2.49
Rohi Marine Private Ltd | 2.49
S & S Seafoods | 2.49
S. A. Exports | 2.49
S Chanchala Combines | 2.49
Safa Enterprises | 2.49
Sagar Foods | 2.49
Sagar Grandhi Exports Pvt. Ltd | 2.49
Sagar Samrat Seafoods | 2.49
Sagarvihar Fisheries Pvt. Ltd | 2.49
SAI Marine Exports Pvt. Ltd | 2.49
SAI Sea Foods | 2.49
Sanchita Marine Products P Limited | 2.49
Sandhya Aqua Exports | 2.49
Sandhya Aqua Exports Pvt. Ltd | 2.49
Sandhya Marines Limited | 2.49
Santhi Fisheries & Exports Ltd | 2.49
Sarveshwari Exp | 2.49
Sarveshwari Ice & Cold Storage Pvt. Ltd | 2.49
Sawant Food Products | 2.49
Seagold Overseas Pvt. Ltd | 2.49
Selvam Exports Private Limited | 2.49
Sharat Industries Ltd | 2.49
Shimpo Exports Pvt. Ltd | 2.49
Shippers Exports | 2.49
Shiva Frozen Food Exp. Pvt. Ltd | 2.49
Shree Datt Aquaculture Farms Pvt. Ltd | 2.49
Shroff Processed Food & Cold Storage P Ltd | 2.49
Silver Seafood | 2.49
Sita Marine Exports | 2.49
Sowmya Agri Marine Exports | 2.49
Sprint Exports Pvt. Ltd | 2.49
Sri Chandrakantha Marine Exports | 2.49
Sri Sakkthi Cold Storage | 2.49
Sri Sakthi Marine Products P Ltd | 2.49
Sri Satya Marine Exports | 2.49
Sri Venkata Padmavathi Marine Foods Pvt. Ltd | 2.49
Srikanth International | 2.49
SSF Ltd | 2.49
Star Agro Marine Exports Private Limited | 2.49
Star Organic Foods Incorporated | 2.49
Sun-Bio Technology Ltd | 2.49
Suryamitra Exim Pvt. Ltd | 2.49
Suvarna Rekha Exports Private Limited | 2.49
Suvarna Rekha Marines P Ltd | 2.49
TBR Exports Pvt Ltd | 2.49
Teekay Marine P. Ltd | 2.49
Tejaswani Enterprises | 2.49
The Waterbase Ltd | 2.49
Triveni Fisheries P Ltd | 2.49
Uniroyal Marine Exports Ltd | 2.49
Unitriveni Overseas | 2.49
V.S Exim Pvt Ltd | 2.49
Vasista Marine | 2.49
Veejay Impex | 2.49
Victoria Marine & Agro Exports Ltd | 2.49
Vinner Marine | 2.49
Vishal Exports | 2.49
Wellcome Fisheries Limited | 2.49
West Coast Frozen Foods Private Limited | 2.49
Z A Sea Foods Pvt. Ltd | 2.49

⁴ Shrimp produced and exported by Devi Sea Foods (Devi) was excluded from this order effective February 1, 2009. See Certain Frozen Warmwater Shrimp From India: Final Results of Antidumping Duty Administrative Review, Partial Rescission of Review, and Notice of Revocation of Order in Part, 75 FR 41813, 41814 (July 19, 2010). However, shrimp produced by other Indian producers and exported by Devi remain subject to the order. Thus, this administrative review with respect to Devi covers only shrimp which was produced in India by other companies and exported by Devi.

Assessment Rates

The Department shall determine, and CBP shall assess, antidumping duties on all appropriate entries.

Pursuant to 19 CFR 351.212(b)(1), because Devi Fisheries and Falcon reported the entered value for all of their U.S. sales, we have calculated importer-specific ad valorem duty assessment rates based on the ratio of the total amount of antidumping duties calculated for the examined sales to the total entered value of the sales for which entered value was reported. To determine whether the duty assessment rates are de minimis, in accordance with the requirement set forth in 19 CFR 351.106(c)(2), we have calculated importer-specific ad valorem ratios based on the entered value.

For the companies which were not selected for individual examination, we have used as the assessment rate the cash deposit rate assigned to these exporters, in accordance with our practice. See, e.g., Certain Frozen Warmwater Shrimp From India: Final Results of Antidumping Duty Administrative Review and Final No Shipment Determination, 77 FR 40848, 40853 (July 11, 2012).

The Department intends to issue assessment instructions to CBP 15 days after the date of publication of these final results of review.

Cash Deposit Requirements

The following cash deposit requirements will be effective for all shipments of subject merchandise entered, or withdrawn from warehouse, for consumption on or after the publication date of the final results of this administrative review, as provided by section 751(a)(2)(C) of the Act: (1) The cash deposit rates for the reviewed companies will be the rates shown above, except if the rate is less than 0.50 percent (de minimis within the meaning of 19 CFR 351.106(c)(1)), the cash deposit will be zero; (2) for previously reviewed or investigated companies not listed above, the cash deposit rate will continue to be the company-specific rate published for the most recent period; (3) if the exporter is not a firm covered in this review, a previous review, or the original LTFV investigation, but the manufacturer is, the cash deposit rate will be the rate established for the most recent period for the manufacturer of the merchandise; and (4) the cash deposit rate for all other manufacturers or exporters will continue to be 10.17 percent, the all-others rate established in the LTFV investigation.⁵ These deposit requirements, when imposed, shall remain in effect until further notice.

⁵ See Notice of Amended Final Determination of Sales at Less Than Fair Value and Antidumping Duty Order: Certain Frozen Warmwater Shrimp from India, 70 FR 5147, 5148 (Feb. 1, 2005).

Notification to Importers

This notice serves as the only reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751 of the Tariff Act of 1930, as amended, and 19 CFR 351.221(b)(5).

Dated: August 20, 2014.
Ronald K. Lorentzen,
Acting Assistant Secretary for Enforcement and Compliance.

Appendix I—List of Topics Discussed in the Issues and Decision Memorandum

Issues

1. Legal Authority to Consider an Alternative Comparison Method in an Administrative Review

2. Withdrawal of the Regulatory Provisions Governing Targeted Dumping in LTFV Investigations

3. Differential Pricing Analysis and the Administrative Procedures Act

4. Differential Pricing Analysis: Identification of a Pattern of Prices that Differ Significantly and Whether the Average-to-Average (A-to-A) Method Can Account for Such Differences

5. Differential Pricing Analysis: Use of the Cohen's d Test

6. Combining the Results of the A-to-A Comparisons and the Average to Transaction (A-to-T) Comparisons to Calculate a Weighted-Average Dumping Margin

7. Differential Pricing Analysis: Application of the A-to-T Method for Falcon's U.S. Sales

8. Rejection of New Factual Information

[FR Doc. 2014-20401 Filed 8-27-14; 8:45 am]

BILLING CODE 3510-DS-P